DEPARTMENT OF HEALTH AND HUMAN SERVICES

Health Resources and Services Administration

Federal Set-Aside Program; Special Projects of Regional and National Significance; Data Utilization and Enhancement: Cooperative Agreements for State Information Systems

AGENCY: Health Resources and Services Administration, HHS.

ACTION: Notice of availability of funds.

SUMMARY: The Health Resources and Services Administration (HRSA) announces that approximately $428,000 in fiscal year (FY) 2000 funds is available for 6 to 10 cooperative agreements to improve maternal and child health State information systems. All awards will be made under the program authority of section 502(a) of the Social Security Act, the Maternal and Child Health (MCH) Federal Set-Aside Program (42 U.S.C. 702(a)). This Data Utilization and Enhancement (DUE) Cooperative Agreement Program (CFDA #93.110 U) will be administered by the Maternal and Child Health Bureau (MCHB), HRSA. Projects will be approved for a 3-year period, with awards at average yearly amounts ranging from $30,000 to $80,000. Funds for DUE cooperative agreements are appropriated by Public Law 106-113.

The DUE competition announced in this notice is a successor to a similar competition that was published in the Fall 1999 HRSA Preview and withdrawn in the Federal Register notice of March 30, 2000 (65 FR 16924). The competition has been modified to adjust project expectations to available funding. This announcement will only appear in the Federal Register and on the HRSA Home Page at: http://www.hrsa.dhhs.gov/.

DATES: The deadline for receipt of applications is July 3, 2000. Applications will be considered “on time” if they are either received on or before the deadline date or postmarked on or before the deadline date. The projected award date is August 31, 2000.

ADDRESSES: To receive a complete application kit, applicants may telephone the HRSA Grants Application Center at 1-877-477-2123 (1-877-HRSA-123) beginning April 21, 2000, or register on-line at: http://www.hrsa.dhhs.gov/, or by accessing http://www.hrsa.gov/g-order3.htm directly. Applicants must use the appropriate Catalog of Federal Domestic Assistance (CFDA) number when requesting application materials. The CFDA is a Governmentwide compendium of enumerated Federal programs, projects, services, and activities which provide assistance. The CFDA Number for the DUE program is: #93.110 U.

This notice and application guidance for the DUE program may be downloaded in either WordPerfect 6.1 or Adobe Acrobat format (.pdf) from the MCHB HomePage at http://www.mchb.hrsa.gov/. Please contact Alisa Azarsa at 301/443-8989 or aazarsa@psc.gov/, if you need assistance.

FOR FURTHER INFORMATION CONTACT: Michael Kogan, Ph.D., 301/443-3145, email: mkogan@hrsa.gov/ (for questions specific to project activities of the program, program objectives, or the required Letter of Intent which is further described in the application kit); Curtis Colston, 301/443-3438, email ccolston@hrsa.gov/ (for grants policy, budgetary, and business questions).

SUPPLEMENTARY INFORMATION:

DUE Program Background and Objectives

The MCHB is directing significant attention to advancing and strengthening essential public health functions, and assisting State programs for MCH and Children with Special Health Care Needs (CSHCN) to enhance the State's analytic capability and information infrastructure. The importance of this issue is evidenced by the recent inclusion of Core Health Status Indicator 08 on “State MCH Data Capacity” in the MCHB's Title V Block Grant reporting system, which focuses on the ability of States to access key public health data sets related to women, children, and families.

MCHB recognizes the need to improve information collection and analysis by local, State, and Federal agencies. Data collected through separate data collection systems, such as birth certificates or Medicaid, would be more useful for identifying and addressing emerging trends if they were linked. Federal funds have been used to support development of individual State information systems through several initiatives, and there continues to be the need for a Federal role in linking datasets and enhancing information systems.

Authorization: Section 502(a) of the Social Security Act, 42 U.S.C. 702(a).

Purpose:

This initiative requires the creative application of information technologies to improve the delivery of health care services to mothers and children. It will fund Cooperative Agreements to State MCH, CSHCN, health data agencies, or to an entity designated by one of the above agencies for the use and enhancement of extant technologies and resources to better collect, manage, link, and disseminate information to improve the health status of mothers and children. Support will be provided for developing linkages between annual data, registries and surveys. Examples of such systems include: infant birth and death certificates, Medicaid claims or eligibility files, Special Supplemental Nutrition Program for Women, Infants, and Children (WIC) files, newborn screening data, hospital discharge information, birth defects surveillance data, and survey data from the Centers for Disease Control-sponsored Pregnancy Risk Assessment Monitoring System (PRAMS) and Youth Risk Behavior Surveillance System (YRBS). The information obtained should increase the ability of States to monitor health status, investigate health problems and evaluate initiatives related to women, children and families.

Awards are intended to supplement and/or complement existing activities initiated by States, local communities, and Federal agencies, thus fostering and strengthening collaboration between Federal, State and local public health agencies.

Eligibility

Under project grant regulations at 42 CFR Part 51a.3, any public or private entity, including an Indian tribe or tribal organization (as defined at 25 U.S.C. 450(b)), is eligible to apply for cooperative agreements covered by this announcement. This initiative, however, is particularly directed at State MCH, CSHCN, health data agencies, or to an entity designated by one of the above agencies that are committed to developing or improving the coordination of their maternal and child health-related datasets and are willing to demonstrate this commitment through specified actions.

Funding Level/Project Period

The total funding level for these cooperative agreements is $428,000 annually over a three-year project period, from September 1, 2000 through May 31, 2003. The project period consists of one or more budget periods, each generally of one year duration. Continuation of any project from one budget period to the next is subject to satisfactory performance, availability of funds, and program priorities. The initial budget period is expected to be 9 months, with subsequent budget periods being 12 months.

An estimated six to ten awards will be made annually, with average first-year awards ranging from $30,000 to $80,000.

Funding Priorities and/or Preferences

In view of the demonstrable State commitment required, preference in making awards will be given to State MCH, CSHCN, health data agencies, or to an entity designated by one of the above agencies.

Federal Involvement in Cooperative Agreements

It is anticipated that substantial Federal programmatic involvement will be required in these Cooperative Agreements during their performance. This means that after award, Federal staff will provide technical assistance and guidance to, or coordinate and participate in, certain programmatic activities of award recipients beyond their normal stewardship responsibilities in the administration of grants. In addition to the usual monitoring and technical assistance provided under grants, MCHB responsibilities for the DUE cooperative agreements will include the following:

(1) Provision of the services of experienced MCHB personnel through participation in the planning and development of all phases of this project;

(2) Participation, as appropriate, in any conferences and meetings conducted during the period of the Cooperative Agreement;

(3) Review, approval and implementation of procedures established for accomplishing the scope of work for the project funded under this cooperative agreement;

(4) Assistance, including referral, in establishing Federal interagency contacts necessary to the successful completion of tasks and activities identified in the approved Scope of Work. MCHB will assist in identifying and establishing Federal interagency contacts required to achieve MCHB dissemination of program communication goals;

(5) Participation in the dissemination of project products.

Review Criteria

The following are generic review criteria applicable to MCHB programs:

(1) The extent to which the project will contribute to the advancement of maternal and child health and/or improvement of the health of children with special health care needs;

(2) The extent to which the project is responsive to policy concerns applicable to MCH grants and to program objectives, requirements, priorities and/or review criteria for specific project categories, as published in program announcements or guidance materials;

(3) The extent to which the estimated cost to the Government of the project is reasonable, considering the anticipated results;

(4) The extent to which the project personnel are well qualified by training and/or experience for their roles in the project and the applicant organization has adequate facilities and personnel; and

(5) The extent to which, insofar as practicable, the proposed activities, if well executed, are capable of attaining project objectives.

The final review criteria used to review and rank applications for the DUE program are included in the application kit. Applicants should pay strict attention to addressing these criteria as they are the basis upon which their applications will be judged.

Dated: April 27, 2000.
Claude Earl Fox,
Administrator.

[FR Doc. 00-11016 Filed 5-2-00; 8:45 am]

BILLING CODE 4160-15-U